DEPARTMENT OF HEALTH AND HUMAN SERVICES

Centers for Disease Control and Prevention

[Docket No. CDC-2023-0076]

Advisory Committee on Immunization Practices (ACIP); Amended Notice of Meeting

AGENCY: Centers for Disease Control and Prevention, Department of Health and Human Services (HHS).

ACTION: Notice.

SUMMARY: The Centers for Disease Control and Prevention (CDC), announces the following meeting of the Advisory Committee on Immunization Practices (ACIP). This meeting is open to the public.

FOR FURTHER INFORMATION CONTACT: Stephanie Thomas, Committee Management Specialist, Advisory Committee on Immunization Practices, National Center for Immunization and Respiratory Diseases, Centers for Disease Control and Prevention, 1600 Clifton Road NE, Mailstop H24-8, Atlanta, Georgia 30329-4027. Telephone: (404) 639-8836; Email: ACIP@cdc.gov.

SUPPLEMENTARY INFORMATION: Notice is hereby given of a change in the meeting of the Advisory Committee on Immunization Practices (ACIP); September 22, 2023, 10 a.m. to 5 p.m., EDT (times subject to change, see the ACIP website for updates: https://www.cdc.gov/vaccines/acip/index.html), in the original Federal Register notice.

Notice of the virtual meeting was published in the Federal Register on September 6, 2023, Volume 88, Number 171, pages 60945-60946.

Notice of the virtual meeting is being amended to add an additional agenda item in the matters to be considered, which should read as follows:

Matters to be Considered: The agenda will include discussions of maternal respiratory syncytial virus (RSV) vaccine, child/adolescent immunization schedules and adult immunization schedule. A recommendation vote for maternal RSV vaccine is scheduled. A Vaccines for Children vote is scheduled for maternal RSV vaccine. Agenda items are subject to change as priorities dictate. For more information on the meeting agenda, visit https://www.cdc.gov/vaccines/acip/meetings/index.html.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2023-21566 Filed 9-29-23; 8:45 am]

BILLING CODE 4163-18-P